DEPARTMENT OF ENERGY

Federal Energy Regulatory Commission

[Docket No. CP03-32-000]

Northwest Pipeline Corporation; Notice of Interagency Meeting and Site Visit

February 25, 2003.

On March 11, 2003, the staff of the Office of Energy Projects (OEP) will conduct a meeting and site visit of Northwest Pipeline Corporation's (Northwest's) proposed White River Replacement Project in King County, Washington. The meeting will begin at 9 am inside the Muckleshoot Indian Tribe's Department of Planning and Public Works. Representatives of Northwest, the Muckleshoot Indian Tribe, the U.S. Fish and Wildlife Service, the NOAA Fisheries, the U.S. Army Corps of Engineers, and the State of Washington may accompany the staff. The meeting will be followed by a site visit to both sides of the White River crossing. Any person interested in attending the site visit should meet with FERC staff at 12:00 noon in the parking lot of the Muckleshoot Indian Tribe's Department of Planning and Public Works. Those planning to attend must provide their own transportation.

The location of the Muckleshoot Indian Tribe's Department of Planning and Public Works is 40320 Auburn-Enumclaw Road SE (State Route 164) in Auburn, Washington, 98092, phone number (360) 802-1922. For further information about the project, please contact the Commission's Office of External Affairs at (202) 502-8004 or toll free at 1-866-208-3372.

Magalie R. Salas,
Secretary.

[FR Doc. 03-4963 Filed 3-3-03; 8:45 am]

BILLING CODE 6717-01-P